INTERNATIONAL TRADE COMMISSION

[Investigation No. 731-TA-1123 (Final)]

Steel Wire Garment Hangers From China Determination

On the basis of the record ¹ developed in the subject investigation, the United States International Trade Commission (Commission) determines, pursuant to section 735(b) of the Tariff Act of 1930 (19 U.S.C. 1673d(b)) (the Act), that an industry in the United States is materially injured by reason of imports from China of steel wire garment hangers, provided for in subheading 7326.20.00 of the Harmonized Tariff Schedule of the United States, that have been found by the Department of Commerce (Commerce) to be sold in the United States at less than fair value (LTFV).

¹ The record is defined in sec. 207.2(f) of the Commission's Rules of Practice and Procedure (19 CFR 207.2(f)).

Background

The Commission instituted this investigation effective July 31, 2007, following receipt of a petition filed with the Commission and Commerce by M&B Metal Products Company, Inc., Leeds, AL. The final phase of the investigation was scheduled by the Commission following notification of a preliminary determination by Commerce that imports of steel wire garment hangers from China were being sold at LTFV within the meaning of section 733(b) of the Act (19 U.S.C. 1673b(b)). Notice of the scheduling of the final phase of the Commission's investigation and of a public hearing to be held in connection therewith was given by posting copies of the notice in the Office of the Secretary, U.S. International Trade Commission, Washington, DC, and by publishing the notice in the Federal Register of April 4, 2008 (73 FR 18560). The hearing was held in Washington, DC, on July 31, 2008, and all persons who requested the opportunity were permitted to appear in person or by counsel.

The Commission transmitted its determination in this investigation to the Secretary of Commerce on September 29, 2008. The views of the Commission are contained in USITC Publication 4034 (September 2008), entitled Steel Wire Garment Hangers from China: Investigation No. 731-TA-1123 (Final).

By order of the Commission.
Issued: September 29, 2008.
Marilyn R. Abbott,
Secretary to the Commission.

[FR Doc. E8-23322 Filed 10-2-08; 8:45 am]

BILLING CODE 7020-02-P